DEPARTMENT OF DEFENSE

Department of the Navy

[Docket No. USN-2010-0005]

Submission for OMB Review; Comment Request

ACTION: Notice.

The Department of Defense has submitted to OMB for clearance, the following proposal for collection of information under the provisions of the Paperwork Reduction Act (44 U.S.C. Chapter 35).

DATES: Consideration will be given to all comments received by October 18, 2010.

Title and OMB Number: Naval Special Warfare Recruiting Directorate Sponsor Application; OMB Control Number 0703-TBD.

Type of Request: New.

Number of Respondents: 2,000.

Responses per Respondent: 1.

Annual Responses: 2,000.

Average Burden per Response: 1 hour.

Annual Burden Hours: 2,000 hours.

Needs and Uses: This collection of information is necessary to: (1) Help determine the eligibility and overall compatibility between individuals interested in potentially pursuing a career as a Navy Sea Air Land (SEAL), or Navy Special Warfare (NSW) Combatant Craft Crewman (SWCC) operator; (2) enable the NSW Recruiting Directorate to provide appropriate career and training preparation information to prospective Navy SEAL recruits; and (3) enable the NSW Recruiting Directorate to better allocate limited resources in establishing relationships with the Naval Special Warfare community and prospective candidates based on the alignment of the prospective candidate profile with individuals who have been historically successful in completing Navy SEAL accession training.

Affected Public: Individuals or household.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: September 3, 2010.
Patricia L. Toppings,
OSD Federal Register Liaison Officer, Department of Defense.

[FR Doc. 2010-23088 Filed 9-15-10; 8:45 am]

BILLING CODE 5001-06-P